DEPARTMENT OF HEALTH AND HUMAN SERVICES

Centers for Disease Control and Prevention

[Program Announcement 00067]

Cooperative Agreement to the Association of State and Territorial Health Officials; Notice of Availability of Funds

A. Purpose

The Centers for Disease Control and Prevention (CDC) announces the availability of fiscal year (FY) 2000 funds for a cooperative agreement with the Association of State and Territorial Health Officials (ASTHO) to act as a conduit of information exchange between the States and the National Immunization Program, keep abreast and inform its constituency of current, proposed, and new legislation regarding immunization, work to create partnerships between State health departments and private health care organizations, and create mechanisms to communicate with and inform their constituency and partners. This program addresses the “Healthy People 2010,” a national activity to reduce morbidity and mortality and improve the quality of life. This announcement is related to the focus area of Immunization and Infectious Diseases. For a conference copy of “Healthy People 2010,” visit the internet site: http://www.health.gov/healthypeople.

B. Eligible Applicants

Assistance will be provided only to ASTHO. No other applications are solicited. ASTHO is the most appropriate and qualified agency to conduct the activities under this cooperative agreement because ASTHO represents the chief public health official of each State and territory. Through its own membership, ASTHO has developed unique knowledge and understanding of the needs and operations of State health agencies. ASTHO has already developed a wealth of experience in immunization policy, support of State immunization programs, and collaborating to conduct immunization activities.

C. Availability of Funds

Approximately $250,000 will be available to fund one cooperative agreement. It is expected that this award will begin on or about September 30, 2000, and will be made for a 12-month budget period within a project period of up to five years. Funding estimates may change.

Continuation awards within an approved project period will be made on the basis of satisfactory progress as evidenced by required reports and the availability of funds.

Use of Funds

Funds cannot be used for construction or renovation, to purchase or lease vehicles or vans, to purchase a facility to house project staff or carry out project activities, or to substitute new activities and expenditures for current ones.

D. Programmatic Requirements

In conducting activities to achieve the purpose of this Cooperative Agreement, ASTHO will be responsible for achieving the activities under Item 1. Recipient Activities. The CDC will be responsible for activities under Item 2. CDC Activities.

1. Recipient Activities

A. Coordinate immunization efforts with existing ASTHO health projects, associations of public health officials, Women Infants and Children Program (WIC), The Council of State and Territorial Epidemiologists (CSTE), Association of Immunization Managers (AIM), and other organized health related associations where immunization programs can have an impact.

B. Facilitate outreach to private providers, non-profit organizations and entities involved in comprehensive school health to increase participation in the Vaccines for Children and Children's Health Insurance Program.

C. Attend meetings and keep State health officers and other partners informed of issues addressed by the Advisory committee on Immunization Practices, the National Vaccine Advisory Committee, and ASTHO Affiliate Immunization Committees.

D. Provide information on key immunization developments to State health officials, State immunization coordinators, appropriate adult or adolescent groups, and school health contacts via newsletters, conference calls, and other multimedia sources.

E. Organize and convene meetings and workshops on an as-needed basis for the purpose of exchanging information and program updates.

F. Collaborate with CDC on immunization issues regarding vaccine safety, immunization registries, immunization coverage studies, and the development and coordination of immunization national policy and evaluation.

2. CDC Activities

A. Provide technical assistance in implementing activities, identifying major immunization issues, effective programs, and setting priorities related to the cooperative agreement.

B. Provide scientific collaboration for appropriate aspects of the activities, including information on disease impact, vaccination coverage levels, and prevention strategies.

C. Assist in development and review of relevant immunization information made available to federal, State, and local health agencies, health care providers, and volunteer organizations.

D. Provide assistance to the grantee in establishing and implementing mechanisms for evaluating the reach of the program and effectiveness of the materials produced.

E. Application Content

Use the information in the Program Requirements, Other Requirements, and Evaluation Criteria sections to develop the application content. Applications will be evaluated on the criteria listed, so it is important to follow them in laying out the program plan. The application should be no more than 35 double-spaced pages, printed on one side, with one inch margins, and 12 point font not including attachments.

Organization Profile

A. Provide a narrative, including background information and information on the applicant organization, evidence of relevant experience in coordinating activities among constituents, and a clear understanding of the purpose of the project.

B. Include details of past experiences working with the target population(s). Provide information on organizational capability to conduct proposed project activities.

C. Profile qualified and experienced personnel who are available to work on the project and provide evidence of an organizational structure that can meet the terms of the project. Include an organizational chart of the applicant organization specifying the location and staffing plan for the proposed project.

Program Plan

A. Include goals and measurable impact and process objectives that are specific, realistic, measurable, and time-phased. Include an explanation of how the objectives contribute to the purposes of the request for assistance and evidence that demonstrates the potential effectiveness of the proposed objectives.

B. Detail an action plan, including a timeline of activities and personnel responsible for implementing each segment of the plan.

C. Prepare a plan to include impact and process evaluation utilizing both quantitative and qualitative measures for the achievement of program objectives to determine the reach and effectiveness of the message promoted by the grantee, and monitor the implementation of proposed activities. Indicate how the quality of services provided will be ensured.

D. Provide a plan for disseminating project results indicating when, to whom, and in what format the material will be presented.

E. Provide a plan for obtaining additional resources from non-federal sources to supplement program activities and ensure continuation of the activities after the end of the project period.

Collaboration Activities

A. Obtain and include letters of support from local organizations and constituents indicating or committing to support the activities of this program.

B. Provide any memoranda of agreement from collaborating organizations indicating a willingness to participate in the project, the nature of their participation, period of performance, names and titles of individuals who will be involved in the project, and the process of collaboration. Each memorandum should also show an understanding and endorsement of immunization activities.

C. Provide evidence of collaborative efforts with health departments, provider organizations, coalitions, and other local organizations.

Budget Information

Provide a detailed budget with justification. The budget proposal should be consistent with the purpose and program plan of the proposed project.

F. Submission and Deadline

Submit the original and two copies of the application PHS 5161-1. Forms are available at the following Internet address: www.cdc.gov/...Forms, or the application kit.

On or before June 15, 2000, submit the application to the Grants Management Specialist identified in the “Where to Obtain Additional Information” section of this announcement.

G. Evaluation Criteria

Each application will be evaluated individually against the following criteria by an independent review group appointed by CDC.

(1) Background and Need: The extent to which the applicant understands the problem of underimmunization and proposes a plan to address the issues specific to their constituents. (15 points)

(2) Capability: The ability of the applicant to implement proposed activities as measured by relevant past experience. (10 points)

(3) Management: The extent to which the applicant can provide a sound management structure, and staff qualifications, including the appropriateness of their proposed roles and responsibilities and job descriptions. (15 points)

(4) Program Plan: The feasibility and appropriateness of the applicant's action plan to identify immunization issues, communicate with, and reach, targeted populations, coordinate efforts with partner groups such as private provider organizations and associations, non-profit organizations, and State immunization programs. (30 points)

(5) Collaboration: The extent to which the applicant can show support from partner groups such as private provider organizations and associations, non-profit organizations, and State immunization programs. (20 points)

(6) Evaluation Plan: The extent to which the applicant proposes to evaluate the proposed plan including impact and process evaluation as well as quantitative and qualitative measures for achievement of program objectives, determining the health effect on the population, and monitoring the implementation of proposed activities. (10 points)

(7) Budget and Justification: The extent to which the proposed budget is adequately justified, reasonable, and consistent with proposed project activities and this program announcement. (Not Scored)

H. Other Requirements

Provide CDC with original plus two copies of:

1. Progress reports (semiannual). The CDC will provide specific guidelines for documenting and reporting on program activities.

2. Financial Status Reports, no more than 90 days after the end of the budget period; and

3. Final financial and performance reports, no more than 90 days after the end of the project period.

Send all reports to the Grants Management Specialist identified in the “Where to Obtain Additional Information” section of this announcement.

The following additional requirements are applicable to this program. For a complete description of each, see Addendum I in the application kit.

AR-10—Smoke-Free Workplace

AR-11—Healthy People 2010

AR-12—Lobbying Restriction

AR-14—Accounting System Requirements

AR-15—Proof of Non-Profit Status

AR-20—Conference Support

I. Authority and Catalog of Federal Domestic Assistance Number

This program is authorized under section 311 [42 U.S.C. 243] and 317(k)(2) [42 U.S.C. 247b(k)(2)] of the Public Health Service Act as amended. The Catalog of Federal Domestic Assistance number is 93.185.

J. Where to Obtain Additional Information

Please refer to Program Announcement Number 00067 when requesting information.

For business management technical assistance contact:

Mattie B. Jackson, Grants Management Specialist, Grants Management Branch, Procurement and Grants Office, Centers for Disease Control and Prevention 2920 Brandywine Rd., Room 3000, Atlanta, GA 30341-4146. Telephone: (770) 488-2718. Email Address: mij3@cdc.gov.

Other CDC Announcements can be downloaded from the internet at http://www.cdc.gov (Click on funding).

For program technical assistance, contact:

Duane Kilgus, Community Outreach and Planning Branch, Immunization Services Division, National Immunization Program, Centers for Disease Control and Prevention, 1600 Clifton Road, M/S E-52, Atlanta, Georgia 30333, Telephone: (404) 639-8784, Email address—dgk9@cdc.gov.

Dated: April 25, 2000.
Henry S. Cassell III,
Acting Director, Procurement and Grants Office, Centers for Disease Control and Prevention (CDC).

[FR Doc. 00-10735 Filed 4-28-00; 8:45 am]

BILLING CODE 4163-18-P